DEPARTMENT OF JUSTICE

Notice of Lodging of a Consent Decree Pursuant to the Clean Water Act

Notice is hereby given that a proposed Consent Decree in United States of America and the State of Maryland v. Baltimore County, Maryland, AMD 05CV2028, was lodged on July 26, 2005, with the United States District Court for the District of Maryland.

In the complaint filed in this matter, the United States alleges violations of section 301 of the Clean Water Act, 33 U.S.C. 1311, and Maryland alleges violations of Sections 9-322 and 9-323 of the Maryland Environment Article, arising from unpermitted discharges of wastewater from Baltimore County's sanitary sewer collection system to various waters of the United States and the State. The proposed Consent Decree would resolve the United States' and Maryland's claims set forth in the complaint through Baltimore County's performance of injunctive measures, the payment of a civil penalty of $750,000 (shared equally by the United States and Maryland), and the performance of three supplemental Environmental Projects (“SEPs”) valued at no less than $4,500,000. Baltimore County has estimated that the injunctive measures, which include comprehensive inspection, rehabilitation, and repair requirements for sewer lines, pump stations, and other system components, will cost in excess of $800,000,000 to implement over the 14½ year schedule set forth in the consent decree.

The Department of Justice will receive comments relating to the proposed Consent Decree for a period of thirty (30) days from the date of this publication. Comments should be addressed to the Acting Assistant Attorney General, Environment and Natural Resources Division, P.O. Box 7611, U.S. Department of Justice, Washington, DC 20044, and should refer to United States et al. v. Baltimore County, Maryland, DJ No. 90-5-1-1-4402/2.

The proposed Consent Decree may be examined at the office of the United States Attorney for the District of Maryland, 36 S. Charles Street, 4th Floor, Baltimore, MD 21201, and at the Region 3 Office of the Environmental Protection Agency, 1650 Arch Street, Philadelphia, PA 19103. During the public comment period, the decree may also be examined on the following Department of Justice Web site, http://www.usdoj.gov/enrd/open.html. A copy of the decree may also be obtained by mail from the Consent Decree Library, PO Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $48.25 (25 cents per page reproduction cost) payable to the U.S. Treasury. The check should refer to United States et al. v. Baltimore County, Maryland, DJ No. 90-5-1-1-4402/2.

Robert D. Brook,
Assistant Section Chief, Environmental Enforcement Section, Environment and Natural Resources Division.

[FR Doc. 05-15867 Filed 8-10-05; 8:45 am]

BILLING CODE 4410-15-M